DEPARTMENT OF TRANSPORTATION

Federal Transit Administration

[Docket No: FTA-2007-0013]

National Transit Database: Amendments to Safety & Security Reporting Manual

AGENCY: Federal Transit Administration (FTA), DOT.

ACTION: Notice of availability of the final 2008 National Transit Database Safety & Security Reporting Manual.

SUMMARY: This notice announces the availability of the Federal Transit Administration's (FTA) 2008 National Transit Database (NTD) Safety & Security Reporting Manual. Pursuant to 49 U.S.C. 5335, FTA requires those transit agencies reporting to the NTD from urbanized areas to provide reports within 30 days of a major safety or security incident, and to provide a monthly report on minor safety and security incidents. The 2008 NTD Safety & Security Reporting Manual details the specific requirements and guidelines for safety and security reporting. On November 21, 2007, FTA published a notice in the Federal Register (72 FR 65636) inviting comments on proposed changes to the 2008 NTD Safety & Security Reporting Manual. This notice provides responses to those comments, and announces the availability of the 2008 NTD Safety & Security Reporting Manual on the NTD Web site at http://www.ntdprogram.gov.

DATES: Effective Date: February 25, 2008.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry. Congress established the NTD to “help meet the needs of * * * the public for information on which to base public transportation service planning * * *” (49 U.S.C 5335). Currently, over 650 transit agencies in urbanized areas report to the NTD through an Internet-based reporting system. Since 2002, the NTD has included an expanded Safety & Security Module in order to meet the increased public interest in transit safety and security data. Data from the Safety & Security NTD Module are used by FTA's Office of Safety and Security, the Department of Homeland Security, the National Transportation Safety Board, and in the biennial United States Department of Transportation Conditions and Performance Report to Congress. NTD reporters are required to submit a report on major incidents to the Safety & Security Module within 30 days of the incident, and to submit a monthly summary report of minor incidents within 30 days of the end of the month.

On November 21, 2007, FTA published a notice in the Federal Register (72 FR 65636) inviting comments on proposed changes to the 2008 NTD Safety & Security Manual. This notice provides responses to those comments, and announces the availability of the 2008 NTD Safety & Security Reporting Manual on the NTD Web site at http://www.ntdprogram.gov.

II. Comments and Response to Comments

FTA received comments from four respondents on its proposed changes, and responds to the comments in the following order: (a) Injury Threshold; (b) Fire Threshold; (c) Data Continuity; (d) Acts of God; and (e) Other Comments.

(a) Injury Threshold.

All four comments objected to FTA's proposal to simplify the injury threshold for filing an incident report. Previously, the injury threshold for filing an incident report was two or more injuries requiring immediate medical transportation away from the scene, or one or more injuries requiring immediate medical transportation away from the scene in the case of incidents at grade crossings or along rail right-of-ways. FTA proposed simplifying this threshold to being simply one or more injuries requiring immediate medical transportation away from the scene. Three comments objected that this reduced threshold would significantly increase reporting burden for simple slips and falls, of which a transit agency may have dozens during a given month. One comment objected that this reduced threshold would require reporting of an incident, “even if the operator avoids an accident and someone falls out of his or her seat and claims to be hurt * * *,” and cited this as an additional example of the increased reporting burden that would result from this proposal.

FTA Responds: Based on these comments, FTA agrees to exempt slips, falls, and electric shocks from the reduced injury threshold. Transit agencies will simply report the total number of injuries resulting from slips, falls, and electric shocks to transit customers, workers, and other persons, and the total number of occurrences of these incidents. This is the same as the existing reporting requirements. FTA, however, will proceed with the simplified single-injury threshold for other incidents, including collisions, fires, and security incidents. In particular, a collision will now require an incident report if it results in one or more injuries requiring immediate medical transport away from the scene, regardless of location. FTA notes that the increased reporting burden of this requirement is offset somewhat by raising the property damage threshold from $7,500 to $25,000, which is the threshold used by FTA's State Safety Oversight Program. In the case where “an operator avoids an accident and someone falls out of his or her seat and claims to be hurt * * *,” FTA will update the 2008 NTD Safety & Security Reporting Manual to reflect that such injuries may be classified as a “fall.” Thus, such an incident would not require filing an incident report. FTA also notes that injuries are not reported to the NTD on the basis of passenger claims of injury; an injury is only reported to the NTD when it results in immediate medical transportation away from the scene.

(b) Fire Threshold.

Two comments objected to FTA's proposal to require an incident report for all fires requiring suppression on the basis that this would be a significant increase in reporting burden.

FTA Responds: Based on these comments, FTA drops its proposal to require an incident report for all fires requiring suppression. Rather, FTA will require an incident report only for those fires that meet the established threshold criteria of:

• One or more fatalities;

• One or more injuries requiring immediate medical transportation away from the scene;

• Property damage greater than or equal to $25,000; or

• An evacuation for life safety reasons.

For fires that require suppression, but which do not meet one of the established threshold criteria, transit agencies will simply report a summary total each month for each of four location categories. These four categories are: (1) In transit vehicles; (2) in revenue facilities; (3) in non-revenue facilities; and, (4) on right-of-way. This is similar to the existing reporting requirements, except for the increased property damage threshold and the lower injury threshold.

(c) Data Continuity.

Two comments objected to FTA's proposal on the grounds that it would create discontinuous safety and security data for transit. Three areas of discontinuity were cited in the comments: (1) Data for injuries; (2) data for fatalities; and, (3) data for major incidents. Additionally, one comment expressed concern that FTA's proposal would cause transit to appear less safe.

FTA Responds: FTA notes that while it is changing the injury threshold for filing an incident report, it is not changing the definition of an injury. Summary totals have previously been collected for injuries and incidents that did not require transit agencies to file a major incident report. As such, this proposal will not impact the continuity of data on total transit injuries.

FTA also notes that while it will be including suicides in the definition of fatalities, it has previously collected data on all fatalities, including suicides. As such, FTA will take great care to ensure that it always uses continuous data series in reporting transit fatalities. FTA will also continue to make available detailed transit fatality data, which will allow data users to exclude suicides from their analysis of transit fatalities.

FTA does note that these changes will cause some difficulty in assembling continuous data on the total number of major transit incidents. Based on previously filed major incident reports, however, FTA does hope to assemble a continuous data series from 2002—present on major transit incidents. To the extent that discontinuous data series on major transit incidents do result from these changes, FTA believes that the negative impacts of discontinuity are more than offset by the benefits to transit agencies of reduced reporting requirements. The reduced reporting requirements will apply to incidents that produce no fatalities and injuries, and between the old threshold of $7,500 in property damage and the new threshold of $25,000 in property damage.

(d) Acts of God.

Two comments requested additional clarification of FTA's proposal to add “Acts of God” as a reportable incident. One comment asked how FTA's proposal for “Acts of God” would relate to various legal definitions for this term.

FTA Responds: This proposal originated from the experiences of some transit agencies in filing NTD Safety & Security reports. Some agencies have notified NTD staff that they have suffered property damage in excess of the reporting threshold as a result of a severe storm or flood, but have been unable to complete an incident report for this occurrence, as the NTD did not account for such “Acts of God.” As such, FTA is adding this category to allow transit agencies to account for the impacts of “Acts of God” on transit facilities. FTA will make clear in the 2008 NTD Safety & Security Reporting Manual that it is not FTA's intent to require transit agencies to assess such “Acts of God” as potential contributing factors to a collision.

(e) Other Comments.

One comment expressed concern about the reporting burden of adding accidents involving non-revenue vehicles and adding hazardous material spills as reportable incidents. One comment expressed concern about FTA collecting information on “light in the eyes” in regard to collisions, and asked if this referred only to sunlight or also to headlights.

FTA Responds: FTA notes that existing reporting requirements already require an incident report for collisions involving non-revenue vehicles when those collisions exceed the reporting threshold. This is unchanged. FTA also notes that existing reporting requirements required reporting hazardous material spills when such spills resulted in an evacuation for life safety reasons. FTA's proposal only slightly modifies this by requiring a report whenever a hazardous material spill causes “imminent danger to life, health, or the environment, and had special attention given at the time of the incident.” FTA does not believe that clarification of the definition will cause a significant increase in reporting burden from the previous definition. FTA will clarify in the 2008 NTD Safety & Security Reporting Manual and in the reporting system itself that the question of “light in the eyes” refers to sunlight.

Two comments expressed concern about the short lead time between the public notice-and-comment on FTA's proposal and the scheduled implementation of the proposal.

FTA responds: FTA recognizes the concern of transit agencies to have ample time to review proposed changes to the NTD data collection. FTA will ensure that more lead time is given for public notice-and-comment for future amendments to the NTD Safety & Security Reporting Manual, and will allow more time for a collaborative development process with the transit industry. In order to support implementation of the 2008 NTD Safety & Security Reporting Manual, FTA has scheduled six training sessions around the country to assist transit agencies in implementing the new requirements. Technical assistance is also available to transit agencies at any time through their NTD data validation analyst.

The final 2008 NTD Safety & Security Reporting Manual is available on the NTD Web site at http://www.ntdprogram.gov.

Issued in Washington, DC, this 20th day of February 2008.
James S. Simpson,
Administrator.

[FR Doc. E8-3517 Filed 2-22-08; 8:45 am]

BILLING CODE 4910-57-P